DEPARTMENT OF THE INTERIOR

National Park Service

[NPS-WASO-NAGPRA-NPS0039105; PPWOCRADN0-PCU00RP14.R50000]

Notice of Inventory Completion: The Kikuchi Center at Kaua'i Community College, Līhu'e, HI

AGENCY: National Park Service, Interior.

ACTION: Notice.

SUMMARY: In accordance with the Native American Graves Protection and Repatriation Act (NAGPRA), the Kikuchi Center at Kaua'i Community College has completed an inventory of human remains and associated funerary objects and has determined that there is a cultural affiliation between the human remains and associated funerary objects and Indian Tribes or Native Hawaiian organizations in this notice.

DATES: Repatriation of the human remains and associated funerary objects in this notice may occur on or after December 26, 2024.

ADDRESSES: Jason Ford, The Kikuchi Center at Kaua'i Community College, 3-1901 Kaumuali'i Highway, Līhu'e, HI 96766, telephone (808) 245-8236, email jford9@hawaii.edu.

SUPPLEMENTARY INFORMATION: This notice is published as part of the National Park Service's administrative responsibilities under NAGPRA. The determinations in this notice are the sole responsibility of the Kikuchi Center at Kaua'i Community College, and additional information on the determinations in this notice, including the results of consultation, can be found in its inventory or related records. The National Park Service is not responsible for the determinations in this notice.

Abstract of Information Available

Human remains representing, at least, one individual have been identified. The five associated funerary objects are four bone artifacts and one bone fish hook. Item: Iwi Kupuna (human remains), including modified bone fragments, and associated funerary objects. Site Name: 14-115 II Barber's Point, Kalaeloa, Honouliuli, 'Ewa, O'ahu Geographical Location: Kalaeloa, Honouliuli, 'Ewa, O'ahu. Collection History: The Kikuchi Center is an archive curating the work of Dr. William Kikuchi. Dr. Kikuchi co-founded the Archaeology Research Center of Hawaii, ARCH, with Francis Ching, Jr. He inherited a collection of ARCH project materials, including ARCH project 14-115 II. This project was an intensive survey and excavation for the harbor expansion at Barber's Point for the State of Hawai'i and the U.S. Army Corps. Barber's Point is Kalaeloa, located in the ahupua'a Honouliuli, moku of 'Ewa. These materials were excavated in 1980 and the founding of the Kikuchi Center and processing of these materials began in September 2022. In March of 2024, an osteologist analyzed the bones in the collection and positively identified the modified humerus as human. These bones are associated with Native Hawaiian sites and cultural layers. The 76 modified bones listed here are unidentifiable due to their size and state of modification, but because they were associated with the positively identified iwi kupuna, are being listed for consultation and repatriation, and treated as human. Due to the possibility of the bone artifacts also being human and their close association with the positively identified bone, they are also listed as associated burial objects. Some bones may be coated in a clear lacquer with individual artifact numbers that are now dissociated from data.

Cultural Affiliation

Based on the information available and the results of consultation, cultural affiliation is reasonably identified by the geographical location or acquisition history of the human remains and associated funerary objects described in this notice. Kalaeloa Heritage and Legacy Foundation has offered their burial vault and to enact reinterment protocols, if required, and defer consultation to include other Native Hawaiian organizations.

Determinations

The Kikuchi Center at Kaua'i Community College has determined that:

• The human remains described in this notice represent the physical remains of one individual of Native Hawaiian ancestry. Modified bone and bone fragments in associated with positively identified iwi kupuna are also being offered for repatriation.

• The five objects described in this notice are reasonably believed to have been placed intentionally with or near individual human remains at the time of death or later as part of the death rite or ceremony.

• There is a connection between the human remains and associated funerary objects described in this notice and the Kalaeloa Heritage and Legacy Foundation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 26, 2024. If competing requests for repatriation are received, the Kikuchi Center at Kaua'i Community College must determine the most appropriate requestor prior to repatriation. Requests for joint repatriation of the human remains and associated funerary objects are considered a single request and not competing requests. The Kikuchi Center at Kaua'i Community College is responsible for sending a copy of this notice to the Indian Tribes and Native Hawaiian organizations identified in this notice.

Authority: Native American Graves Protection and Repatriation Act, 25 U.S.C. 3003, and the implementing regulations, 43 CFR 10.10.

Dated: November 18, 2024.
Melanie O'Brien,
Manager, National NAGPRA Program.

[FR Doc. 2024-27510 Filed 11-22-24; 8:45 am]

BILLING CODE 4312-52-P